INTERNATIONAL TRADE COMMISSION

[Investigation No. 337-TA-1398]

Certain Smart Wearable Devices, Systems, and Components Thereof; Notice of the Commission's Final Determination Finding a Violation of Section 337; Issuance of a Limited Exclusion Order and Cease and Desist Orders; Termination of the Investigation

AGENCY: U.S. International Trade Commission.

ACTION: Notice.

SUMMARY: Notice is hereby given that the U.S. International Trade Commission has found a violation of section 337 in the above-captioned investigation. The Commission has determined to issue: (1) a limited exclusion (“LEO”) prohibiting the unlicensed entry of infringing smart wearable devices, systems, and components thereof that are manufactured by or on behalf of, or imported by or on behalf of, the respondents; and (2) cease and desist orders (“CDOs”) against five respondents. The investigation is terminated.

FOR FURTHER INFORMATION CONTACT: Joelle P. Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on April 17, 2024, based on a complaint filed on behalf of Ouraring, Inc. of San Francisco, California, and Ōura Health Oy of Oulu, Finland (collectively, “Oura”). 89 FR 27452-53 (Apr. 17, 2024). The complaint, as amended, alleged violations of section 337 of the Tariff Act of 1930, as amended, 19 U.S.C. 1337, based upon the importation into the United States, the sale for importation, and the sale within the United States after importation of certain smart wearable devices, systems, and components thereof by reason of the infringement of certain claims of U.S. Patent Nos. 11,868,178 (“the '178 patent”); 10,842,429 (“the '429 patent”); and 11,868,179 (“the '179 patent”). The Commission's notice of investigation named as respondents (collectively, “Respondents”): (1) Ultrahuman Healthcare Pvt. Ltd. of Bengaluru, India; Ultrahuman Healthcare SP LLC of Abu Dhabi, UAE; and Ultrahuman Healthcare Ltd. of London, United Kingdom (collectively, “Ultrahuman”); (2) Guangdong Jiu Zhi Technology Co. Ltd. of Guangdong, China; RingConn LLC of Wilmington, Delaware (collectively, “RingConn”); and (3) Circular SAS of Paris, France. The Office of Unfair Import Investigations (“OUII”) is also a party in this investigation.

The complaint and notice of investigation were later amended to change the name of Respondent Guangdong Jiu Zhi Technology Co. Ltd. to Shenzhen Ninenovo Technology Limited because of a corporate name change, and to amend the address for RingConn LLC. Order No. 8 (May 3, 2024), unreviewed by Comm'n Notice, 89 FR 48686-87 (June 7, 2024).

The Commission terminated the investigation as to respondent Circular SAS based on settlement. Order No. 12 (July 9, 2024), unreviewed by Comm'n Notice (Aug. 6, 2024).

The Commission further terminated the investigation as to all claims of the '429 and '179 patents, and all but claims 1, 2, and 12-14 of the '178 patent. Order No. 13 (July 30, 2024), unreviewed by Comm'n Notice (Aug. 22, 2024); Order No. 15 (Sept. 16, 2024), unreviewed by Comm'n Notice (Oct. 7, 2024); Order No. 21 (Dec. 9, 2024), unreviewed by Comm'n Notice (Dec. 23, 2024).

On April 18, 2025, the presiding ALJ issued the Final Initial Determination (“Final ID”), finding that there has been a violation of section 337 in the importation into the United States, the sale for importation, and/or the sale in the United States after importation of certain smart wearable devices, systems, and components thereof with respect to the asserted claims of the '178 patent. Specifically, the Final ID finds that: (1) the importation requirement was satisfied for the accused products; (2) claims 1, 2, and 12-14 of the '178 patent were shown to be infringed; (3) the technical prong of the domestic industry requirement was satisfied with respect to the '178 patent; (4) claims 1, 2, and 12-14 of the '178 patent were not shown to be invalid; and (5) the economic prong of the domestic industry requirement was satisfied with respect to the '178 patent. Final ID at 130.

The ALJ also issued a Recommended Determination on Remedy and Bonding (“RD”). The RD recommends that, if the Commission finds a violation, it should issue a limited exclusion order and cease and desist orders and impose a bond of zero percent (0%) during the period of Presidential review. RD at 136-41. Pursuant to the Notice of Investigation, the ALJ also took evidence with respect to the public interest. The RD finds that the issuance of remedial orders in this investigation would not adversely affect the public interest factors enumerated in 19 U.S.C. 1337(d)(1) and (f)(1). Id. at 131-36.

On May 2, 2025, Respondents filed a joint petition for review of the Final ID. On May 12, 2025, Oura and OUII each filed responses to Respondents' petition.

On May 22, 2025, Ultrahuman submitted public interest comments pursuant to Commission Rule 210.50(a)(4) (19 CFR 210.50(a)(4)). Eight submissions were filed on behalf of third parties in response to the Commission's Federal Register notice seeking submissions on the public interest. See 90 FR 17449-50 (Apr. 25, 2025).

On June 20, 2025, the Commission determined to review the Final ID's analysis of the economic prong of the domestic industry requirement. 90 FR 27055-57 (June 25, 2025). The Commission determined not to review the remainder of the Final ID's findings. Id. at 27055. The Commission requested briefing from the parties on certain issues relating to potential remedial orders, and from the parties, interested government agencies, and other interested persons on the issues of remedy, the public interest, and bonding. Id. at 27055-56.

On July 7, 2025, the parties filed their respective written submissions on remedy, public interest, and bonding. On July 14, 2025, the parties filed their reply submissions. The Commission received fifteen submissions from third parties regarding the public interest. The Commission also received a letter from Representatives Vern Buchanan and Troy Balderson of the United States House of Representatives, dated August 6, 2025. Respondents filed a response to the letter from Reps. Buchanan and Balderson on August 15, 2025.

Having examined the record in this investigation, including the Final ID, Respondents' petition for review, the responses thereto, and the submissions to the Commission, the Commission has determined to find a violation of section 337 as to the '178 patent. As set forth in the simultaneously-issued Commission opinion, the Commission takes no position regarding the Final ID's domestic industry findings under subsection 337(a)(3)(A) and Oura's claimed capital investments under subsection 337(a)(3)(B). The Commission otherwise affirms, as modified, the Final ID's economic prong analysis.

The Commission has determined that the appropriate form of relief is an LEO prohibiting the unlicensed entry of infringing smart wearable devices, systems, and components thereof manufactured by or on behalf of Respondents or any of their affiliated companies, parents, subsidiaries, or other related business entities, or their successors or assigns. The Commission has also determined to issue CDOs to Ultrahuman and RingConn.

The Commission has further determined that the public interest factors enumerated in subsections (d)(l) and (f)(1) (19 U.S.C. 1337(d)(l), (f)(1)) do not preclude issuance of the above-referenced remedial orders. Additionally, the Commission has determined to impose a bond in the amount of zero percent (i.e., no bond) as to as to the infringing products imported during the period of Presidential review (19 U.S.C. 1337(j)). The investigation is terminated.

The Commission vote for this determination took place on August 21, 2025.

This action is taken under the authority of section 337 of the Tariff Act of 1930, as amended (19 U.S.C. 1337), and in Part 210 of the Commission's Rules of Practice and Procedure (19 CFR part 210).

By order of the Commission.
Issued: August 21, 2025.
Lisa Barton,
Secretary to the Commission.

[FR Doc. 2025-16316 Filed 8-25-25; 8:45 am]

BILLING CODE 7020-02-P